DEPARTMENT OF ENERGY

Federal Energy Regulatory Commission

Combined Notice of Filings #1

Take notice that the Commission received the following exempt wholesale generator filings:

Docket Numbers: EG20-26-000.

Applicants: Crowned Ridge Interconnection, LLC.

Description: Notice of Self-Certification of Exempt Wholesale Generator Status of Crowned Ridge Interconnection, LLC.

Filed Date: 11/6/19.

Accession Number: 20191106-5133.

Comments Due: 5 p.m. ET 11/27/19.

Take notice that the Commission received the following electric rate filings:

Docket Numbers: ER13-2318-007; ER16-2515-002; ER16-2278-002; ER13-2317-007; ER13-2319-007; ER17-2577-002.

Applicants: All Dams Generation, LLC, Black River Hydroelectric, LLC, Cube Yadkin Generation LLC, Lake Lynn Generation, LLC, PE Hydro Generation, LLC, York Haven Power Company, LLC.

Description: Notice of Non-Material Change in Status of All Dams Generation, LLC, et al.

Filed Date: 11/6/19.

Accession Number: 20191106-5182.

Comments Due: 5 p.m. ET 11/27/19.

Docket Numbers: ER17-556-002.

Applicants: Grady Wind Energy Center, LLC.

Description: Notice of Non-Material Change in Status of Grady Wind Energy Center, LLC.

Filed Date: 11/7/19.

Accession Number: 20191107-5110.

Comments Due: 5 p.m. ET 11/29/19.

Docket Numbers: ER19-2392-000.

Applicants: Chief Conemaugh Power II, LLC.

Description: Report Filing: Notice of Effective Date to be effective N/A.

Filed Date: 10/30/19.

Accession Number: 20191030-5101.

Comments Due: 5 p.m. ET 11/20/19.

Docket Numbers: ER19-2393-000.

Applicants: Chief Keystone Power II, LLC.

Description: Report Filing: Notice of Effective Date to be effective N/A.

Filed Date: 10/30/19.

Accession Number: 20191030-5104.

Comments Due: 5 p.m. ET 11/20/19.

Docket Numbers: ER20-325-000.

Applicants: PJM Interconnection, L.L.C.

Description: Compliance filing: Notice of Cancellation of Service Agreement Nos. 1012 and 944; Queues K01 & G44 to be effective N/A.

Filed Date: 11/6/19.

Accession Number: 20191106-5130.

Comments Due: 5 p.m. ET 11/27/19.

Docket Numbers: ER20-326-000.

Applicants: The Dayton Power and Light Company, Ohio Power Company, PJM Interconnection, L.L.C.

Description: § 205(d) Rate Filing: DPL and Ohio Power submit Interconnection Agreement SA No. 1461 to be effective 1/6/2020.

Filed Date: 11/6/19.

Accession Number: 20191106-5159.

Comments Due: 5 p.m. ET 11/27/19.

Docket Numbers: ER20-327-000.

Applicants: Midcontinent Independent System Operator, Inc., American Electric Power Service Corporation.

Description: § 205(d) Rate Filing: 2019-11-07_SA 1524 I&M-NIPSCO Interconnection Agreement 3rd Rev to be effective 10/17/2019.

Filed Date: 11/7/19.

Accession Number: 20191107-5030.

Comments Due: 5 p.m. ET 11/29/19.

Docket Numbers: ER20-328-000.

Applicants: Sierra Pacific Power Company.

Description: § 205(d) Rate Filing: Service Agreement Nos. 16-00063 and 18-00023 Amended to be effective 11/1/2019.

Filed Date: 11/7/19.

Accession Number: 20191107-5049.

Comments Due: 5 p.m. ET 11/29/19.

Docket Numbers: ER20-329-000.

Applicants: PJM Interconnection, L.L.C.

Description: Tariff Cancellation: Notice of Cancellation of WMPA/SA No. 4383; Queue No. AB1-046 to be effective 11/12/2019.

Filed Date: 11/7/19.

Accession Number: 20191107-5052.

Comments Due: 5 p.m. ET 11/29/19.

Docket Numbers: ER20-330-000.

Applicants: PJM Interconnection, L.L.C.

Description: Tariff Cancellation: Notice of Cancellation of WMPA/SA No. 4384; Queue No. AB1-047 to be effective 11/12/2019.

Filed Date: 11/7/19.

Accession Number: 20191107-5097.

Comments Due: 5 p.m. ET 11/29/19.

Docket Numbers: ER20-331-000.

Applicants: PJM Interconnection, L.L.C.

Description: § 205(d) Rate Filing: Original ICSA SA No. 5500; Queue No. AC1-216 to be effective 10/8/2019.

Filed Date: 11/7/19.

Accession Number: 20191107-5106.

Comments Due: 5 p.m. ET 11/29/19.

Docket Numbers: ER20-332-000.

Applicants: Midcontinent Independent System Operator, Inc.

Description: § 205(d) Rate Filing: 2019-11-07_SA 2872 Montana Dakota-Montana Dakota 2nd Rev. GIA (J405) to be effective 10/23/2019.

Filed Date: 11/7/19.

Accession Number: 20191107-5111.

Comments Due: 5 p.m. ET 11/29/19.

Docket Numbers: ER20-333-000.

Applicants: San Diego Gas & Electric Company.

Description: § 205(d) Rate Filing: First Amended and Restated Engineering & Procurement Agreement to be effective 11/8/2019.

Filed Date: 11/7/19.

Accession Number: 20191107-5112.

Comments Due: 5 p.m. ET 11/29/19.

Docket Numbers: ER20-334-000.

Applicants: PJM Interconnection, L.L.C.

Description: Tariff Cancellation: Notice of Cancellation of WMPA/SA No. 4385; Queue No. AB1-048 to be effective 11/12/2019.

Filed Date: 11/7/19.

Accession Number: 20191107-5142.

Comments Due: 5 p.m. ET 11/29/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2019.
Kimberly D. Bose,
Secretary.

[FR Doc. 2019-24770 Filed 11-14-19; 8:45 am]

BILLING CODE 6717-01-P